FEDERAL EMERGENCY MANAGEMENT AGENCY

44 CFR Part 65

Changes in Flood Elevation Determinations

AGENCY: Federal Emergency Management Agency (FEMA).

ACTION: Final rule.

SUMMARY: Modified Base (1-percent-annual-chance) Flood Elevations (BFEs) are finalized for the communities listed below. These modified elevations will be used to calculate flood insurance premium rates for new buildings and their contents.

EFFECTIVE DATES: The effective dates for these modified BFEs are indicated on the following table and revise the Flood Insurance Rate Maps in effect for the listed communities prior to this date.

ADDRESSES: The modified BFEs for each community are available for inspection at the office of the Chief Executive Officer of each community. The respective addresses are listed in the table below.

FOR FURTHER INFORMATION CONTACT: Matthew B. Miller, P.E., Chief, Hazards Study Branch, Federal Insurance and Mitigation Administration, FEMA, 500 C Street SW., Washington, DC 20472, (202) 646-3461, or (e-mail) matt.miller@fema.gov.

SUPPLEMENTARY INFORMATION: FEMA makes the final determinations listed below of the modified BFEs for each community listed. These modified elevations have been published in newspapers of local circulation and ninety (90) days have elapsed since that publication. The Acting Administrator, Federal Insurance and Mitigation Administration has resolved any appeals resulting from this notification.

The modified BFEs are not listed for each community in this notice. However, this rule includes the address of the Chief Executive Officer of the community where the modified BFEs determinations are available for inspection.

The modifications are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required to either adopt or to show evidence of being already in effect in order to qualify or to remain qualified for participation in the National Flood Insurance Program (NFIP).

These modified elevations, together with the floodplain management criteria required by 44 CFR 60.3, are the minimum that are required. They should not be construed to mean that the community must change any existing ordinances that are more stringent in their floodplain management requirements. The community may at any time enact stricter requirements of its own, or pursuant to policies established by other Federal, State, or regional entities.

These modified elevations are used to meet the floodplain management requirements of the NFIP and are also used to calculate the appropriate flood insurance premium rates for new buildings built after these elevations are made final, and for the contents in these buildings.

The changes in BFEs are in accordance with 44 CFR 65.4.

National Environmental Policy Act

This rule is categorically excluded from the requirements of 44 CFR part 10, Environmental Consideration. No environmental impact assessment has been prepared.

Regulatory Flexibility Act

The Acting Administrator, Federal Insurance and Mitigation Administration certifies that this rule is exempt from the requirements of the Regulatory Flexibility Act because modified BFEs are required by the Flood Disaster Protection Act of 1973, 42 U.S.C. 4105, and are required to maintain community eligibility in the NFIP. No regulatory flexibility analysis has been prepared.

Regulatory Classification

This final rule is not a significant regulatory action under the criteria of Section 3(f) of Executive Order 12866 of September 30, 1993, Regulatory Planning and Review, 58 FR 51735.

Executive Order 12612, Federalism

This rule involves no policies that have federalism implications under Executive Order 12612, Federalism, dated October 26, 1987.

Executive Order 12778, Civil Justice Reform

This rule meets the applicable standards of Section 2(b)(2) of Executive Order 12778.

List of Subjects in 44 CFR Part 65

Flood insurance, Floodplains, Reporting and Recordkeeping requirements.

Accordingly, 44 CFR part 65 is amended to read as follows:

PART 65—[AMENDED]

1. The authority citation for Part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location and Case No.: | Dates and name of newspaper where notice was published | Chief executive officer of community | Effective date of modification | Community No.
Arizona:
Maricopa, (Docket No. FEMA-B-7426) | Town of Buckeye, (01-09-453P) | November 1, 2001, November 8, 2001, Buckeye Valley News | The Honorable Dusty Hull, Mayor, Town of Buckeye, 100 North Apache Road, Suite A, Buckeye, Arizona 85326 | Oct. 9, 2001 | 040039
Maricopa, (Docket No. FEMA-B-7426) | Town of Cave Creek, (02-09-241X0 | December 27, 2001, January 3, 2002, Arizona Republic | The Honorable Vincent Francis, Mayor, Town of Cave Creek, Cave Creek Town Hall, 37622 North Cave Creek Road, Cave Creek, AZ 85331 | Apr. 3, 2002 | 040129
Maricopa, (Docket No. FEMA-B-7428) | City of El Mirage, (00-09-083P) | January 31, 2002, February 7, 2002, Arizona Republic | The Honorable Jose Delgado, Mayor, City of El Mirage, 14405 North Palm Street, El Mirage, Arizona 85335 | Jan. 4, 2002 | 040041
Maricopa, (Docket No. FEMA-B-7428) | City of Goodyear, (02-09-257P) | January 24, 2002, January 31, 2002, Arizona Republic | The Honorable Bill Arnold, Mayor, City of Goodyear, 119 North Litchfield Road, Goodyear, Arizona 85338 | Jan. 15, 2002 | 040046
Maricopa, (Docket No. FEMA-B-7428) | City of Peoria, (01-09-1060P) | March 7, 2002, March 14, 2002, Arizona Republic | The Honorable John Keegan, Mayor, City of Peoria, 8401 West Monroe Street, Peoria, Ariizona 85345 | June 13, 2002 | 040050
Maricopa, (Docket No. FEMA-B-7426) | City of Phoenix, (01-09-1003P) | September 21, 2001, September 28, 2001, Arizona Republic | The Honorable Skip Rimsza, Mayor, City of Phoenix, 200 West Washington Street, 11th Floor, Phoenix, Arizona 85003-1611 | Sept. 10, 2001 | 040051
Maricopa, (Docket No. FEMA-B-7426) | City of Phoenix, (01-09-285P) | November 8, 2001, November 15, 2001, Arizona Republic | The Honorable Skip Rimsza, Mayor, City of Phoenix, 200 West Washington Street, 11th Floor, Phoenix, Arizona 85003-1611 | Oct. 15, 2001 | 040051
Maricopa, (Docket No. FEMA-B-7428) | Cit of Phoenix, (01-09-526P) | January 10, 2002, January 17, 2002, Arizona Republic | The Honorable Skip Rimsza, Mayor, City of Phoenix, 200 Washington Street, 11th Floor, Phoenix, Arizona 85003-1611 | Dec. 12, 2001 | 040051
Maricopa, (Docket No. FEMA-B-7428) | City of Scottsdale, )01-09-1199P) | February 28, 2002, March 7, 2002, Arizona Republic | The Honorable Mary Manross, Mayor, City of Scottsdale, 3939 Civic Center Boulevard, Scottsdale, Arizona 85251 | June 5, 2002 | 045012
Maricopa, (Docket No. FEMA-B-7428) | City of Surprise, (00-09-083P) | January 31, 2002, February 7, 2002, Arizona Republic | The Honorable Joan Shafer, Mayor, City of Surprise, 12425 West Bell Road, Suite D100, Surprise, Arizona 85374 | Jan. 4, 2002 | 040053
Maricopa, (Docket No. FEMA-B-7428) | Cit of Surprise, (02-09-165P) | March 7, 2002, March 14, 2002, Arizona Republic | The Honorable Joan Shafer, Mayor, City of Surprise, 12425 West Bell Road, Suite D-100, Surprise, Arizona 85374 | Feb. 19, 2002 | 040053
Maricopa, (Docket No. FEMA-B-7426) | Unincorporated Areas, (01-09-453P) | November 1, 2001, November 8, 2001, Bucker Valley News | The Honorable Janice K. Brewer, Chairperson, Maricopa County Board of Supervisors, 301 West Jefferson Street, 10th Floor, Phoenix, Arizona 85003 | Oct. 9, 2001 | 040037
Maricopa, (Docket No. FEMA-B-7426) | Unincorporated Areas, (02-09-241X) | December 27, 2001, January 3, 2001, Arizona Republic | The Honorable Jamice Brewer, Chairperson, Maricopa County Board of Supervisor, 301 West Jefferson, 10th Floor, Phoenix, Arizona 85003 | Apr. 3, 2002 | 040037
Maricopa, (Docket No. FEMA-B-7428) | Unincorporated Areas, (00-09-083P) | January 31, 2002, February 7, 2002, Arizona Republic | The Honorable Janice Brewer, Chairperson, Maricopa County Board of Supervisors, 301 West Jefferson, 10th Floor, Phoenix, Arizona 85003 | Jan. 4, 2002 | 040037
Maricopa, (Docket No. FEMA-B-7428) | Unincorporated Areas, (01-09-1158P) | March 15, 2002, March 22, 2002, Arizona Republic | The Honorable Janice Brewer, Chairperson, Maricopa County Board of Supervisors, 301 West Jefferson, 10th Floor, Phoenix, Arizona 85003 | Mar. 5, 2002 | 040037
Pima, (Docket No. FEMA-B-7428) | City of Tucson, (00-09-051P) | November 8, 2001, November 15, 2001, Arizona Daily Star | The Honorable Robert Walkup, Mayor, City of Tucson, P.O. Box 27210, Tucson, Arizona 85726 | Nov. 2, 2001 | 040076
California:
Alameda, (Docket No. FEMA-B-7428) | City of Livermore, (01-09-344P) | February 7, 2002, February 14, 2002, Tri-Valley Herald | The Honorable Cathie Brown, Mayor, City of Livermore, 1052 South Livermore Avenue, Livermore, California 94550 | Dec. 19, 2001 | 060008
Alameda, (Docket No. FEMA-B-7428) | Unincorporated Areas, (01-09-344P) | January 11, 2002, January 18, 2002, Inter-City Express | The Honorable Scott Haggerty, Chairman, Alameda County Board of Supervisors, 1221 Oak Street, Suite 536, Oakland, California 94612 | Dec. 19, 2001 | 060001
Kern, (Docket No. FEMA-B-7426) | Unincorporated Areas, (01-09-804P) | October 22, 2001, October 25, 2001, Bakersfield Californian | The Honorable Ken Peterson, Chairman, Kern County Board of Supervisors, 1115 Truxton Avenue, Fifth Floor, Bakersfield, California 93301 | Sept. 27, 2001 | 060075
Orange, (Docket No. FEMA-B-7426) | City of Huntington Beach, (00-09-825P) | November 8, 2001, November 15, 2001, Huntington Beach Independent | The Honorable Pam Julien Houchen, Mayor, City of Huntington Beach, 2000 Main Street, Huntington Beach, California 92648 | Feb. 13, 2002 | 065034
Riverside, (Docket No. FEMA-B-7426) | City of Norco, (02-09-195X) | October 25, 2001, November 1, 2001, Press Enterprise | The Honorable Hal H. Clark, Mayor, City of Norco, 3036 Sierra Avenue, Norco, California 92860 | Jan. 30, 2002 | 060256
Riverside, (Docket No. FEMA-B-7426) | Unincorporated Areas, (02-09-195X) | October 25, 2001, November 1, 2001, Press Enterprise | The Honorable Jim Venable, Chairperson, Riverside County Board of Supervisors, 4080 Lemon Street, 14th Floor, Riverside, California 92501 | Jan. 30, 2002 | 060245
Riverside, (Docket No. FEMA-B-7428) | Unincorporated Areas, (02-09-069P) | December 21, 2001, December 28, 2001, Press-Enterprise | The Honorable Jim Venable, Chairman, Riverside County Board of Supervisors, 4080 Lemon Street, 14th Floor, Riverside, California 92501 | Nov. 27, 2001 | 060245
San Diego, (Docket No. FEMA-B-7426) | City of Carlsbad, (01-09-204P) | November 1, 2001, November 8, 2001 North County Times | The Honorable Claude A. Lewis, Mayor, City of Carlsbad, 1200 Carlsbad Village Drive, Carlsbad, California 92008 | Oct. 25, 2001 | 060285
San Diego, (Docket No. FEMA-B-7426) | City of Escondido, (01-09-835P) | January 3, 2002, January 10, 2002, North County Times | The Honorable Lori Pfeiler, Mayor, City of Escondido, 201 North Broadway, Escondido, California 92025 | Apr. 10, 2002 | 060290
San Diego, (Docket No. FEMA-B-7428) | City of Escondido, (01-09-8498X) | February 8, 2002, February 15, 2002, North County Times | The Honorable Lori Pfeiler, Mayor, City of Escondido, 201 North Broadway, Escondido, California 92025 | Feb. 19, 2002 | 060290
San Diego, (Docket No. FEMA-B-7428) | City of San Diego, (02-09-498X) | February 8, 2002, February 15, 2002 San Diego Daily Transcript | The Honorable Dick Murphy, Mayor, City of San Diego, 202 C Street, 11th Floor, San Diego, California 92101 | Feb. 19, 2002 | 060295
San Diego, (Docket No. FEMA-B-7426) | City of Vista, (01-09-568P) | November 28, 2001, December 5, 2001, North County Times | The Honorable Gloria E. McClellan, Mayor, City of Vista, P.O. Box 1988, Vista, California 92085 | Nov. 7, 2001 | 060297
Santa Clara, (Docket No. FEMA-B-7428) | City of Santa Clara, (01-09-1106P) | January 24, 2002, January 31, 2002, San Jose Mercury News | The Honorable Judy Nadler, Mayor, City of Santa Clara, 1500 Warburton Avenue Santa Clara, California 95050 | Jan. 4, 2002 | 060350
Shasta, (Docket No. FEMA-B-7426) | City of Redding, (01-09-682P) | December 5, 2001, December 12, 2001, Redding Record Searchlight | The Honorable Dave McGeorge, Mayor, City of Redding, 777 Cypress Avenue, Redding, California 96001 | May 12, 2002 | 060360
Solano, (Docket No. FEMA-B-7428) | City of Vacaville, (01-09-935P) | March 21, 2002, March 28, 2002, The Reporter | The Honorable David Fleming, Mayor, City of Vacaville, City Hall, 650 Merchant Street, Vacaville, California 95688 | Feb. 21, 2002 | 060373
Ventura, (Docket No. FEMA-B-7428) | City of Fillmore, (01-09-709P) | January 31, 2002, February 7, 2002, Fillmore Gazette | The Honorable Donald Gunderson, Mayor, City of Fillmore, Fillmore City Hall, Central Park Plaza, 250 Central Avenue, Fillmore, California 93015-1907 | May 8, 2002 | 060415
Ventura, (Docket No. FEMA-B-7426) | City of Simi Valley, (01-09-981P) | December 12, 2001, December 19, 2001, Ventura County Star | The Honorable William Davis, Mayor, City of Simi Valley, 2929 Tapo Canyon Road, Simi Valley, California 93063-2199 | Nov. 26, 2001 | 060421
Ventura, (Docket No. FEMA-B-7428) | Unincorporated Areas, (01-09-709P) | January 31, 2002, February 7, 2002, Fillmore Gazette | The Honorable Frank Schillo, Chairman, Ventura County Board of Supervisors, 800 South Victoria Avenue, Ventura, California 93009 | May 8, 2002, | 060413
Colorado:
Adams, (Docket No. FEMA-B-7426) | City of Aurora, (00-08-342P) | November 1, 2001, November 8, 2001, Aurora Sentinel | The Honorable Paul E. Adams Tauer, Mayor, City of Aurora, 1470 South Havana Street, Eighth Floor, Aurora, Colorado 80012-4090 | Jan. 23, 2002 | 080002
Adams, (Docket No. FEMA-B-7428) | Unincorporated Areas, (00-08-342P) | October 6, 2001, October 24, 2001, October 27, 2001, Brighton Standard—Blade | The Honorable Marty Flaum, Chairman, Adams County Board of Commissioners, 450 South Fourth Avenue, Brighton, Colorado 80601 | Jan. 23, 2002 | 080001
Adams, (Docket No. FEMA-B-7428) | Unincorporated Areas, (01-08-416P) | January 23, 2002, January 30, 2002, Brighton Standard—Blade | The Honorable Ted Strickland, Chairman, Adams County Board of Commissioners, 450 South Fourth Avenue, Brighton, Colorado 80601 | Apr. 9, 2002 | 080001
Adams and Boulder, (Docket No. FEMA-B-7428) | City of Broomfield, (01-08-416P) | January 2, 2002, January 9, 2002, Boulder Daily Camera | The Honorable William Berens, Mayor, City of Broomfield, One Descombes Drive, Broomfield, Colorado 80020 | Apr. 9, 2002 | 085073
Arapahoe, (Docket No. FEMA-B-7426) | City of Cherry Hills Village, (01-08-262P) | October 18, 2001, October 25, 2001, The Villager | The Honorable Joan Ducan, Mayor, City of Cherry Hills Village, 2450 East Quincy Avenue, Cherry Hills Village, Colorado 80110 | Jan. 23, 2002 | 080013
Boulder, (Docket No. FEMA-B-7426) | City of Broomfield, (01-08-339P) | October 31, 2001, November 7, 2001, Boulder Daily Camera | The Honorable William Berens, Mayor, City of Broomfield, One DesCombers Drive, Broomfield, Colorado 80020 | Feb. 5, 2002 | 085073
El Paso, (Docket No. FEMA-B-7428) | Unicorporated Areas, (01-08-226P) | February 6, 2002, February 13, 2002, El Paso County News | Mr. Ed Jones, Chairman, El Paso County Board of Commissioners, 27 East Vermijo Avenue, Third Floor, Colorado Springs, Colorado 80903-2208 | May 4, 2002 | 080059
Gilpin, (Docket No. FEMA-B-7428) | City of Black Hawk, (01-08-251P) | March 15, 2002, March 22, 2002, Weekly Register Call | The Honorable Kathryn Eccker, Mayor, City of Black Hawk, P.O. Box 17, Black Hawk, Colorado 80422 | June 20, 2002 | 080076
Larimer, (Docket No. FEMA-B-7426) | City of Fort Collins, (01-08-045P) | December 27, 2001, January 3, 2002, Fort Collins Coloradoan | The Honorable Ray Martinez, Mayor, City of Fort Collins, P.O. Box 580, Fort Collins, Colorado 80522-0580 | Nov. 29, 2001 | 080102
Larimer, (Docket No. FEMA-B-7428) | City of Fort Collins, (02-08-045P) | March 21, 2002, March 28, 2002, Fort Collins Coloradoan | The Honorable Ray Martinez, Mayor, City of Fort Collins, P.O. Box 580, Fort Collins, Colorado 80522-0580 | Mar. 6, 2002 | 080102
Larimer, (Docket No. FEMA-B-7428) | Unicorporated Areas, (01-08-404P) | January 3, 2002, January 10, 2002, Fort Collins Coloradoan | The Honorable Kathay Rennels, Chairperson, Larimer County Board of Commissioners, P.O. Box 1190, Fort Collins, Colorado 80522-1190 | Apr. 10, 2002 | 080101
Hawaii:
Hawaii, (Docket No. FEMA-B-7428) | Hawaii County, (01-09-1038P) | January 17, 2002, January 24, 2002, Hawaii Tribune Herald | The Honorable Harry Kim, Mayor, Hawaii County, 25 Aupuni Street, Hilo, Hawaii 96720 | Dec. 27, 2001 | 155166
Nevada:
Clark, (Docket No. FEMA-B-7426) | City of North Las Vegas, (01-09-514P) | November 21, 2001, November 28, 2001, Las Vegas Review-Journal | The Honorable Michael L. Montandon, Mayor, City of North Las Vegas, 2200 Civic Center Drive, North Las Vegas, Nevada 89030 | Oct. 31, 2001 | 320007
Elko, (Docket No. FEMA-B-7428) | City of Elko, (01-09-621P) | January 31, 2002, February 7, 2002, Elko Daily Free Press | The Honorable Mike Franzoia, Mayor, City of Elko, 1751 College Avenue, Elko, Nevada 89801 | May 8, 2002 | 320010
Independent City, (Docket No. FEMA-B-7428) | City of Carson City, (01-09-066P) | December 21, 2001, December 28, 2001, Nevada Appeal | The Honorable Ray Masayko, Mayor, City of Carson City, 201 North Carson Street, Suite 2, Carson City, Nevada 89701 | Nov. 29, 2001 | 320001
Washoe, (Docket No. FEMA-B-7428) | City of Reno, (01-09-689P) | January 10, 2002, January 17, 2002, Reno Gazette-Journal | The Honorable Jeff Griffin, Mayor, City of Reno, P.O. Box 1900, Reno, Nevada 89505-1900 | Dec. 14, 2001 | 320020
Washoe, (Docket No. FEMA-B-7426) | Unincorporated Areas, (01-09-307P) | December 21, 2001, December 28, 2001, Reno Gazette-Journal | The Honorable Ted Short, Chairman, Washoe County Board of Commissioners, P.O. Box 11130, Reno, Nevada 89520 | Nov. 26, 2001 | 320019
Oklahoma:
Oklahoma, (Docket No. FEMA-B-7428) | City of Edmond, (02-06-210P) | March 7, 2002, March 14, 2002, Edmond Evening Sun | The Honorable Sandra Naifeh, Mayor, City of Edmond, P.O. Box 2970, Edmond, Oklahoma 73083-2970 | June 12, 2002 | 400252
Oregon:
Coos, (Docket No. FEMA-B-7428) | City of Bandon, (00-10-392P) | January 2, 2002, January 9, 2002, Western World | The Honorable Brian M. Vick, Mayor, City of Bandon, City Hall, P.O. Box 433, Bandon, Oregon 97411 | Dec. 10, 2001 | 410043
South Dakota:
Pennington, (Docket No. FEMA-B-7428) | Town of New Underwood, (02-08-085P) | January 10, 2002, January 17, 2002, Rapid City Journal | The Honorable Benita White, Mayor, Town of New Underwood, P.O. Box 278, New Underwood, South Dakota 57761 | Dec. 14, 2001 | 460092
Texas:
Collin, (Docket No. FEMA-B-7426) | City of Plano, (01-06-1043P) | November 8, 2001, November 15, 2001, Plano Star Courier | The Honorable Jeran Akers, Mayor, City of Plano, P.O. Box 860358, Plano, Texas 75086-0358 | Oct. 17, 2001 | 480140
Collin, (Docket No. FEMA-B-7428) | City of Plano, (01-06-1678P) | March 15, 2002, March 22, 2002, Plano Star Courier | The Honorable Jeran Akers, Mayor, City of Plano, P.O. Box 860358, Plano, Texas 75086-0358 | Mar. 5, 2002 | 480140
Dallas, (Docket No. FEMA-B-7426) | City of Dallas (01-06-1381P) | December 27, 2001, January 3, 2002, Commercial Recorder | The Honorable Ron Kirk, Mayor, City of Dallas, City Hall, 1500 Marilla Street, Dallas, Texas 75201 | Dec. 6, 2001 | 480171
Dallas, (Docket No. FEMA-B-7426) | City of Sachse, (01-06-309P) | November 7, 2001, November 14, 2001, Dallas Morning News | The Honorable Hugh Cairns, Mayor, City of Sachse City Hall, 5560 Highway 78, Sachse, Texas 75048 | Oct. 12, 2001 | 480186
Dallas, (Docket No. FEMA-B-7426) | Unincorporated Areas, (01-06-309P) | November 7, 2001, November 14, 2001, Dallas Morning News | The Honorable Lee F. Jackson, Dallas County Judge, Administration Building, 411 Elm Street, Second Floor, Dallas, Texas 75202 | Oct. 12, 2001 | 480165
Virginia:
Prince William, (Docket No. FEMA-B-7428) | City of Manassas, (01-03-207P) | March 14, 2002, March 21, 2002, Manassas Journal Messenger | The Honorable Marvin L. Gillum, Mayor, City of Manassas, 9027 Center Street, Room 101, Manassas, Virginia 20110 | June 21, 2002 | 510122
Prince William, (Docket No. FEMA-B-7428) | Unincorporated Areas, (01-03-207P) | March 14, 2002, March 21, 2002, Manassas Journal Messenger | The Honorable Sean Connaughton, Chairman, Prince William County Board of Supervisors, One County Complex Court, Prince William, Virginia 22192 | June 21, 2002 | 510119
Washington:
Cowlitz, (Docket No. FEMA-B-7426) | Unincorporated Areas, (01-10-401P) | November 8, 2001, November 15, 2001, Daily News | The Honorable Jeff M. Rasmussen, Chairman, Cowlitz County, Board of Commissioners, 207 Fourth Avenue North, Kelso, Washington 98626 | Feb. 13, 2002 | 530032
Mason, (Docket No. FEMA-B-7428) | Skokomish Indian Tribe, (01-10-496P) | February 28, 2002, March 7, 2002, Shelton Mason County Journal | The Honorable Denny Hurtado, Chairman, Skokomish Tribal Council, North 80 Tribal Center Road, Shelton, Washington 98584 | Feb. 7, 2002 | 530326
Whatcom, (Docket No. FEMA-B-7426) | Unincorporated Areas, (01-10-534P) | November 29, 2001, December 6, 2001, Bellingham Herald | The Honorable Pete Kremen, County Executive, Whatcom County, 311 Grand Avenue, Suite 108, Bellingham, Washington 98225 | November 13, 2001 | 530198

Dated: July 23, 2002.
(Catalog of Federal Domestic Assistance No. 83.100, “Flood Insurance.”)
Robert F. Shea,
Acting Administrator, Federal Insurance and Mitigation Administration.

[FR Doc. 02-19576 Filed 8-1-02; 8:45 am]

BILLING CODE 6718-04-P